DEPARTMENT OF DEFENSE

Office of the Secretary

[Transmittal Nos. 09-55, 09-56, 09-58, 09-62, and 09-64]

36(b)(1) Arms Sales Notification

AGENCY: Defense Security Cooperation Agency, DoD.

ACTION: Notice.

SUMMARY: The Department of Defense is publishing the unclassified text of five section 36(b)(1) arms sales notifications. This is published to fulfill the requirements of section 155 of Public Law 104-164 dated 21 July 1996.

FOR FURTHER INFORMATION CONTACT: Ms. B. English, DSCA/DBO/CFM, (703) 601-3740.

SUPPLEMENTARY INFORMATION: The following are copies of letters to the Speaker of the House of Representatives, Transmittals 09-55, 09-56, 09-58, 09-62, and 09-64 with attached transmittal, policy justification, and Sensitivity of Technology.

Dated: November 18, 2009.
Mitchell S. Bryman,
Alternate OSD Federal Register Liaison Officer, Department of Defense.

BILLING CODE 5001-06-P

Transmittal No. 09-55

Transmittal No. 09-56

Transmittal No. 09-58

Transmittal No. 09-62

Transmittal No. 09-64

[FR Doc. E9-28027 Filed 11-20-09; 8:45 am]

BILLING CODE 5001-06-C